DEPARTMENT OF HEALTH AND HUMAN SERVICES

Administration for Community Living

Agency Information Collection Activities; Proposed Collection; Public Comment Request; State Grants for Assistive Technology Program Annual Progress Report (AT APR)

AGENCY: Administration for Community Living, Department of Health and Human Services.

ACTION: Notice.

SUMMARY: The Administration for Community Living (ACL) is announcing an opportunity for the public to comment on ACL's intention to collect information necessary to determine grantee compliance with Section 4 of the Assistive Technology Act of 1998, as amended (AT Act). Under the Paperwork Reduction Act of 1995 (PRA), Federal agencies are required to publish a notice in the Federal Register concerning each proposed collection of information, including each proposed extension of an existing collection of information, and to allow 60 days for public comment in response to the proposed action. This notice solicits comments on a proposed revision to an existing data collection related to the State Grants for Assistive Technology Program Annual Progress Report (AT APR), formerly the 572 Report (0985-0042).

DATES: Submit written or electronic comments on the collection of information by September 15, 2017.

ADDRESSES: Submit electronic comments on the collection of information to: Robert.Groenendaal@acl.hhs.gov. Submit written comments on the collection of information by mail to Robert Groenendaal, U.S. Department of Health and Human Services, Administration for Community Living, 330 C Street SW., Room 1317B, Washington, DC 20201.

FOR FURTHER INFORMATION CONTACT: Robert Groenendaal at (202) 795-7356 or Robert.Groenendaal@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension or update of an existing collection of information, before submitting the collection to OMB for approval. The proposed data collection represents a revision of a currently approved collection (ICR-Rev). In order to comply with the above requirement, ACL is requesting approval of a revision of a previously approved collection, the State Grants for Assistive Technology Program Annual Progress Report (AT APR), formerly known as the 572 report (0985-0042).

The AT APR is submitted annually by all State Grantees for AT programs receiving formula funds under Section 4 of the Assistive Technology Act of 1998, as Amended (AT Act). The AT APR is used by ACL to assess grantees' compliance with Section 4 of the AT Act and with applicable provisions of the HHS regulations at 45 CFR part 75. The AT APR enables ACL to analyze qualitative and quantitative data to track performance outcomes and efficiency measures of the State Grants for AT programs; support budget requests; comply with the GPRA Modernization Act of 2010 (GPRAMA) reporting requirements; provide national benchmark information; and inform program development and management activities. This information collection has 3 pieces: (A) a web-based system that collects data from states; (B) a performance measure survey on the access and acquisition of AT devices and services that states collect from individuals; and, (C) a customer satisfaction survey that states collect from individuals on their experiences accessing and acquiring AT through the State AT program. The burden table below identifies the data collection activities for the three surveys above as well as the estimates for record keeping and entry of aggregate data. In addition to submitting a State Plan every three years, states and outlying areas are required to submit annual progress reports on their activities. The data required for these progress reports is specified in Section 4(f) of the AT Act. The State Grants for AT program conduct the following state-level and state leadership activities: state financing, device demonstration, device loans, device reutilization, training and technical assistance, public awareness, and information and referral.

The proposed State Grants for Assistive Technology Program Annual Progress Report may be found on the ACL Web site at: https://www.acl.gov/about-acl/public-input.

Burden Estimates

ACL estimates the burden of this collection of information as follows:

The total estimated hour burden per respondent for the proposed AT APR will decrease from the 406 hours per respondent estimated in FY 2014 to 404 hours estimated for FY 2017, an estimated reduction of two hours per respondent or 112 in total. These are in addition to substantial reductions made during the last information collection process. The reduction in burden is a result of a data collection workgroup composed of State AT program staff that met to suggest revisions to the current instrument. The workgroup solicited feedback from all of the grantees through face-to-face meetings and webinar presentations. The number of hours is multiplied by 56 AT State Grants programs, resulting in a total estimated hour burden of 22,624 hours.

Respondent/data collection activity | Number of respondents | Responses per respondent | Hours per response | Annual burden hours
State Grants for AT Annual Progress Report (AT APR) | 56 | 1 | 80.0 | 4,480
Performance Measure Surveys | 56 | 1 | 54.0 | 3,024
Customer Satisfaction Surveys | 56 | 1 | 54.0 | 3,024
Data Entry for the Instruments | 56 | 1 | 208.0 | 11,648
Record Keeping Burden | 56 | 1 | 8.0 | 448
Total | 56 | 1 | 404.0 | 22,624

Dated: July 10, 2017.
Mary Lazare,
Acting Administrator and Assistant Secretary for Aging.

[FR Doc. 2017-14960 Filed 7-14-17; 8:45 am]

BILLING CODE 4154-01-P